DEPARTMENT OF AGRICULTURE

Forest Service

Notice of New Fee Site; Federal Lands Recreation Enhancement Act, (Title VIII, Pub. L. 108-447)

AGENCY: Caribou-Targhee National Forest, USDA Forest Service.

ACTION: Notice of New Fee Site.

SUMMARY: The Caribou-Targhee National Forest will begin charging a $40 fee for the overnight rental of Malad Summit Guard Station. Rentals of other cabins on the Caribou-Targhee National Forest have shown that publics appreciate and enjoy the availability of historic rental cabins. Funds from the rental will be used for the continued operation and maintenance of the Malad Summit Guard Station.

DATES: Malad Summit Guard Station will become available for rent in June, 2007.

ADDRESSES: Forest Supervisor, Caribou-Targhee National Forest, 1405 Hollipark Dr., Idaho Falls, Idaho 83401.

FOR FURTHER INFORMATION CONTACT: Debrah Tiller, Landscape Architect, 208-236-7500.

SUPPLEMENTARY INFORMATION: The Federal Recreation Lands Enhancement Act (Title VII, Pub.L. 108-447) directed the Secretary of Agriculture to publish a six month advance notice in the Federal Register whenever new recreation fee areas are established.

The Caribou-Targhee National Forest currently has nine other cabin rentals. These rentals are often fully booked throughout their rental season. A business analysis of Malad Summit Guard Station has shown that people desire having this sort of recreation experience on the Caribou-Targhee National Forest. A market analysis indicates that the $40/per night fee is both reasonable and acceptable for this sort of unique recreation experience.

People wanting to rent Malad Summit Guard Station will need to do so through the National Recreation Reservation Service, at www.reserveusa.com or by calling 1-877-444-6777. The National Recreation Reservation Service charges a $9 fee for reservations.

Dated: 17 November 2006.
Cheryl Bainbridge,
Acting Caribou-Targhee National Forest Supervisor.

[FR Doc. E6-19893 Filed 11-24-06; 8:45 am]

BILLING CODE 3410-11-P